DEPARTMENT OF JUSTICE

Notice of Lodging of Consent Decrees Under the Comprehensive Environmental Response, Compensation, and Liability Act (CERCLA)

Notice is hereby given that on March 1, 2010, a proposed Consent Decree in the case of United States and the Coeur d'Alene Tribe v. Sidney Resources Corp., civ. no. 10-00112-BLW, was lodged concurrently with the filing of a complaint in the United States District Court for the District of Idaho.

The United States and the Coeur d'Alene Tribe (“Tribe”) filed a complaint against Sidney Resources Corp. (“Sidney”) alleging that Sidney is liable pursuant to Section 107(a) of CERCLA for response costs and natural resources damages in connection with Operable Unit Three of the Bunker Hill Mining and Metallurgical Complex Superfund Site in northern Idaho. The U.S. Environmental Protection Agency has incurred response costs and the U.S. Department of the Interior, U.S. Department of Agriculture and the Tribe are trustees of injured natural resources for the Site. The proposed Consent Decree is based on a financial analysis that Sidney has no ability to pay. Sidney does not currently own property within the Site. The Decree requires Sidney to assign its interests in insurance policies to a trust, for the benefit of EPA and the natural resource trustees. The Decree grants Sidney a covenant not to sue for response costs and natural resource damages in connection with the Site.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States and the Coeur d'Alene Tribe v. Sidney Resources Corp., D.J. Ref. No. 90-11-3-128/8.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the United States Treasury or, if by e-mail or fax, forward a check in that amount to the Consent Decree Library at the stated address.

Maureen Katz,
Assistant Section Chief, Environmental Enforcement Section, Environment and Natural Resources Division.

[FR Doc. 2010-7118 Filed 3-30-10; 8:45 am]

BILLING CODE 4410-15-P